DEPARTMENT OF COMMERCE

National Oceanic and Atmospheric Administration

RIN 0648-XF510

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application submitted by the Cape Cod Commercial Fishermen's Alliance contains all of the required information and warrants further consideration. This Exempted Fishing Permit would allow participants to use electronic monitoring systems in lieu of at-sea monitors in support of a study to develop electronic monitoring for the purposes of catch monitoring in the groundfish fishery. Additionally, vessels would be authorized to access portions of groundfish closed areas. Regulations under the Magnuson-Stevens Fishery Conservation and Management Act require publication of this notification to provide interested parties the opportunity to comment on applications for proposed Exempted Fishing Permits.

DATES: Comments must be received on or before July 31, 2017.

ADDRESSES: You may submit written comments by either of the following methods:

• Email: nmfs.gar.efp@noaa.gov. Include in the subject line “CCCFA EM EFP.”

• Mail: John K. Bullard, Regional Administrator, NMFS, Greater Atlantic Regional Fisheries Office, 55 Great Republic Drive, Gloucester, MA 01930. Mark the outside of the envelope “CCCFA EM EFP.”

FOR FURTHER INFORMATION CONTACT: Claire Fitz-Gerald, Fishery Management Specialist, 978-281-9255.

SUPPLEMENTARY INFORMATION: Groundfish sectors are required to implement and fund an at-sea monitoring (ASM) program. A sector is allowed to use electronic monitoring (EM) to satisfy this monitoring requirement, provided that NMFS deems the technology sufficient for catch monitoring. EM typically incorporates video cameras, gear sensors, and electronic reporting systems into a vessel's fishing operations. For the groundfish fishery, the program designs currently being considered are the “audit model” and the “maximized retention model.” The audit model would use EM to verify discards reported by a captain on a vessel trip report (VTR). Under the maximized retention model, vessels would be required to retain most fish species (e.g., allocated groundfish stocks), but be required to discard other species, such as those managed by trip limits (e.g., dogfish) or protected species (e.g., Atlantic salmon), and EM would be used to ensure compliance with discarding regulations.

NMFS has not yet approved EM as a suitable alternative to ASM for the groundfish fishery. There are still some issues that must be resolved; for example, specifying how much video needs to be reviewed to satisfy monitoring objectives and identifying best practices for species that are difficult to identify. To address these challenges, NMFS has been collaborating with the Cape Cod Commercial Fishermen's Alliance (CCCFA), The Nature Conservancy (TNC), the Gulf of Maine Research Institute, the Maine Coast Fishermen's Association, Ecotrust Canada, and several groundfish sectors since 2015. NMFS continues to develop an EM program with these partners that can be implemented for catch monitoring in the groundfish fishery. In May 2016, NMFS issued EFPs to vessels from the Georges Bank Cod Fixed Gear Sector, the Maine Coast Community Sector, the Sustainable Harvest Sector, and Northeast Fishery Sectors 5 and 11, which allowed them to use EM in lieu of at-sea monitors on trips selected for ASM, at the 14 percent target observer coverage level. Under the EFP, 100 percent of the video from these trips are reviewed and used to identify and enumerate discards of groundfish species. NMFS did not use discarded catch reported on the vessel trip report. In May 2017, the EFP was renewed to continue efforts to improve the functionality of EM, refine fish handling protocols, and support future implementation of the audit model. The 2017 target observer coverage is 16 percent. However, our partners are seeking to expand the use of EM and data collection, and requested this new, additional EFP.

Under this newest EFP, participants would be required to use EM on 100 percent of their groundfish trips to verify regulated groundfish discards, and EM would be used to replace at-sea monitors when selected for ASM coverage. EM would not replace Northeast Fishery Observer Program (NEFOP) observers, but EM would run concurrently on these trips. Initially, 100 percent of the video from every trip would be reviewed for data collection to monitor discards and support ongoing analysis to implement an audit program (i.e., reduce video review rates below 100 percent and/or use electronic VTR for discard data in quota monitoring).

Given presumably high concentrations of healthy fish stocks in portions of groundfish closed areas, and because vessels would be fully monitored, the CCCFA also requested access to portions of groundfish closed areas to enable vessels to more effectively target healthy fish stocks (i.e., pollock, haddock, hake, and redfish), while avoiding cod. If approved, this request would help achieve another project objective, which is to increase participation and incentivize the use of EM. These exemptions would include: (1) Hook gear (jig machines, hand gear, benthic long lines) and sink gillnets in Closed Area I (CAI) and Closed Area II (CAII); (2) Hook gear (jig machines, hand gear, benthic long lines) in the Western Gulf of Maine (WGOM) Closure Area; and (3) Jig gear (jig machines and hand gear) in the Fippennies Ledge portion of Cashes Ledge. The CCCFA did not request that trawl gear vessels be allowed to access these closed areas under the EFP. The EFP would not exempt any participating vessels from the seasonal Gulf of Maine (GOM) Cod Protection Areas to ensure cod spawning protection is not undermined. EFP trips would occur year-round (excluding seasonal closures), although the majority of trips would occur in the summer and fall months. Participation in this EFP would be heavily dependent on how many vessels leave the already-approved EFP (i.e., 16 percent coverage, no closed area access), and choose to join this new EFP (i.e., 100 percent coverage, closed area access). There are currently 14 vessels listed on the current EFP. Because vessels may only participate in one of these EFPs; these 14 vessels, plus an additional 3 vessels, could be approved under this new 100-percent EM EFP. If access to the closed areas is approved, we expect most vessels would choose to participate in this new EFP.

All catch of groundfish stocks allocated to sectors by vessels would be deducted from the sector's annual catch entitlement for each groundfish stock. Legal-sized regulated groundfish would be retained and landed, as required by the FMP. Undersized groundfish would be handled according to the EM project guidelines in view of cameras and returned to the sea as quickly as possible. All other species would be handled per normal commercial fishing operations. No legal-size regulated groundfish would be discarded, unless otherwise permitted through regulatory exemptions granted to the participating vessel's sector.

NMFS has not yet developed the full set of business rules for an audit program, such as the pass/fail criteria and the video review rates. However, under this EFP, vessels would continue to pursue the audit model by reporting all catch (kept and discards) on their electronic VTR, and EM would be used to monitor discards from each trip. This EFP is expected to significantly increase EM data collection by requiring EM on 100 percent of trips along with increased opportunities for accessing healthy fish stocks within some closed areas. This will improve the ability to develop and implement an audit program, beyond the EFPs that required EM coverage of 14 percent last year, and 16 percent this year.

The CCCFA requested a gear exemption from the Atlantic Highly Migratory Species (HMS) regulations; that request is being considered separately by the Atlantic HMS program.

The CCCFA also requested an exemption from the Pre-Trip Notification System (PTNS), which is used in several fisheries for NEFOP observer deployment and for ASM deployment in the groundfish fishery; we do not intend to grant that exemption. Vessels participating in this EFP are still required to take NEFOP observers, and without a suitable and fair alternative, we must still use PTNS to facilitate and monitor observer deployments in the fishery. Additionally, it is highly likely that all Federal vessels will have a pre-trip requirement as part of the Region's Fishery-Dependent Data Vision (FDDV) project. We think it is important to retain this type of requirement, rather than temporarily exempt vessels only to have it replaced by a similar requirement in the near future. However, we recognize the concerns expressed by the applicants, and the fishing industry at-large regarding reporting requirements. We expect that the FDDV will address many of these concerns, and that EM may offer the ability to simplify reporting. If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: July 11, 2017.
Emily H. Menashes,
Acting Director, Office of Sustainable Fisheries, National Marine Fisheries Service.

[FR Doc. 2017-14820 Filed 7-13-17; 8:45 am]

BILLING CODE 3510-22-P